FEDERAL MARITIME COMMISSION

Notice of Meeting

Agency Holding the Meeting: Federal Maritime Commission.

Time and Date: May 7, 2008—10 a.m.

Place: 800 North Capitol Street, NW., First Floor Hearing Room, Washington, DC.

Status: Part of the Meeting will be held in Open Session and the remainder of the meeting will be held in Closed Session.

Matters To Be Considered

Open Session

1. Docket No. 06-05—Verucci Motorcycles LLC v. Senator International Ocean LLC.

Closed Session

1. FMC Agreement No. 201178—Los Angeles/Long Beach Port Terminal Operator Administration and Implementation Agreement.

FOR FURTHER INFORMATION CONTACT: Karen V. Gregory, Assistant Secretary, (202) 523-5725.

Karen V. Gregory,
Assistant Secretary.

[FR Doc. E8-9872 Filed 5-6-08; 8:45 am]

BILLING CODE 6730-01-M